DEPARTMENT OF TRANSPORTATION

Federal Aviation Administration

14 CFR Part 39

[Docket No. FAA-2007-28365; Directorate Identifier 2007-NE-26-AD; Amendment 39-15185; AD 2007-18-05]

RIN 2120-AA64

Airworthiness Directives; Societe de Motorisations Aeronautiques (SMA) SR305-230 and SR305-230-1 Reciprocating Engines

AGENCY: Federal Aviation Administration (FAA), Department of Transportation (DOT).

ACTION: Final rule; request for comments.

SUMMARY: We are adopting a new airworthiness directive (AD) for the products listed above. This AD results from Mandatory Continuing Airworthiness Information (MCAI) provided by the aviation authority of France to identify and correct an unsafe condition on SMA SR305-230 and SR305-230-1 reciprocating engines. The MCAI states the following:

Several occurrences of cracks on the exhaust collector assembly have been reported in service. Failure of the engine primary exhaust can lead to a loss of engine manifold pressure and may result in a loss of engine power. In some recent occurrences, cracking has appeared near the weld of the Turbine Inlet Temperature (TIT) probe support. This eventually led to an open hole in the exhaust collector assembly. The resulting loss of engine power was not compatible with the continuation of the flight and an immediate landing was necessary.

We are issuing this AD to prevent failure of the engine primary exhaust, which could result in loss of engine power and inability to maintain safe flight.

DATES: This AD becomes effective October 9, 2007.

We must receive comments on this AD by October 22, 2007.

ADDRESSES: You may send comments by any of the following methods:

• DOT Docket Web Site: Go to http://dms.dot.gov and follow the instructions for sending your comments electronically.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

• Fax: (202) 493-2251.

• Federal eRulemaking Portal: http://www.regulations.gov. Follow the instructions for submitting comments.

Examining the AD Docket

You may examine the AD docket on the Internet at http://dms.dot.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

FOR FURTHER INFORMATION CONTACT: Christopher Spinney, Aerospace Engineer, Engine Certification Office, FAA, Engine & Propeller Directorate, 12 New England Executive Park, Burlington, MA 01803; e-mail: christopher.spinney@faa.gov; telephone (781) 238-7175; fax (781) 238-7199.

SUPPLEMENTARY INFORMATION:

Discussion

The European Aviation Safety Agency (EASA), which is the Technical Agent for the Member States of the European Community, has issued EASA Airworthiness Directive 2007-0127, dated May 7, 2007, to correct an unsafe condition for the specified products. The EASA AD states:

Several occurrences of cracks on the exhaust collector assembly have been reported in service. Failure of the engine primary exhaust can lead to a loss of engine manifold pressure and may result in a loss of engine power. In some recent occurrences, cracking has appeared near the weld of the Turbine Inlet Temperature (TIT) probe support. This eventually led to an open hole in the exhaust collector assembly. The resulting loss of engine power was not compatible with the continuation of the flight and an immediate landing was necessary.

You may obtain further information by examining the EASA AD in the AD docket.

Relevant Service Information

SMA has issued Service Bulletin SB-01-78-001, dated March 27, 2007. The actions described in this service information are intended to correct the unsafe condition identified in the MCAI.

FAA's Determination and Requirements of This AD

This product has been approved by the aviation authority of France, and is approved for operation in the United States. Pursuant to our bilateral agreement with France, they have notified us of the unsafe condition described above. We are issuing this AD because we evaluated all the information provided by the Direction Generale De L'Aviation Civile, which is the airworthiness authority for France, and determined the unsafe condition exists and is likely to exist or develop on other products of the same type design.

FAA's Determination of the Effective Date

An unsafe condition exists that requires the immediate adoption of this AD. The FAA has found that the risk to the flying public justifies waiving notice and comment prior to adoption of this rule because compliance times do not afford opportunity to gather public comment. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-28365; Directorate Identifier 2007-NE-26-AD” at the beginning of your comments. We specifically invite comments on the overall regulatory, economic, environmental, and energy aspects of this AD. We will consider all comments received by the closing date and may amend this AD because of those comments.

We will post all comments we receive, without change, to http://dms.dot.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-18-05 Societe de Motorisations Aeronautiques: Amendment 39-15185. Docket No. FAA-2007-28365; Directorate Identifier 2007-NE-26-AD.

Effective Date

(a) This airworthiness directive (AD) becomes effective October 9, 2007.

Affected ADs

(b) None.

Applicability

(c) This AD applies to Societe de Motorisations Aeronautiques (SMA) SR305-230 and SR305-230-1 reciprocating engines with exhaust collector assembly part number (P/N) SF01080014-0. These engines are installed on, but not limited to, Cessna 182 series airplanes modified to supplemental type certificate AS03302AT.

Reason

(d) Several occurrences of cracks on the exhaust collector assembly have been reported in service. Failure of the engine primary exhaust can lead to a loss of engine manifold pressure and may result in a loss of engine power. In some recent occurrences, cracking has appeared near the weld of the Turbine Inlet Temperature (TIT) probe support. This eventually led to an open hole in the exhaust collector assembly. The resulting loss of engine power was not compatible with the continuation of the flight and an immediate landing was necessary.

We are issuing this AD to prevent failure of the engine primary exhaust, which could result in loss of engine power and inability to maintain safe flight.

Actions and Compliance

Initial Inspection

(e) Unless already done, do the following actions.

(1) Within 30 hours time-since-new (TSN), visually inspect the exhaust collector assembly, P/N SF01080014-0 in the area of the TIT probe mount weld for cracks.

(2) Before further flight, replace exhaust collector assemblies found cracked with a serviceable part.

Repetitive Inspections

(3) Within 10 hours time-since-last inspection (TSLI), repeat the actions specified in paragraph (e)(1) and (e)(2) of this AD.

Replace Exhaust Collector Assembly

(4) Within 50 hours TSN, replace the exhaust collector assembly with a serviceable part.

Continuing Action

(5) Continue to inspect and replace exhaust collector assemblies as specified in paragraphs (e)(1) through (e)(4) of this AD.

Definitions

(6) For the purpose of this AD, a serviceable exhaust collector assembly is a new exhaust collector assembly, or an exhaust collector assembly with fewer than 50 operating hours and no cracks.

FAA AD Differences

(f) This AD differs from the Mandatory Continuing Airworthiness Information (MCAI) and/or service information as follows:

(1) We require the initial inspection within 30 hours TSN instead of at 30 hours TSN.

(2) We require the repetitive inspections within 10 hours TSLI instead of at 40 hours TSN.

(3) We define a serviceable part.

Other FAA AD Provisions

(g) Alternative Methods of Compliance (AMOCs): The Manager, Engine Certification Office, FAA, has the authority to approve AMOCs for this AD, if requested using the procedures found in 14 CFR 39.19.

(h) Special Flight Permits: We will allow a special flight permit to comply with paragraph (e)(4) of this AD.

Related Information

(i) Refer to MCAI EASA Airworthiness Directive 2007-0127, dated May 7, 2007, and SMA Service Bulletin SB-01-78-78-001, dated March 27, 2007, for related information.

(j) Contact Christopher Spinney, Aerospace Engineer, Engine Certification Office, FAA, Engine & Propeller Directorate, 12 New England Executive Park, Burlington, MA 01803; e-mail: christopher.spinney@faa.gov; telephone (781) 238-7175; fax (781) 238-7199 for more information about this AD.

Material Incorporated by Reference

(k) None.

Issued in Burlington, Massachusetts, on September 11, 2007.
Francis A. Favara,
Manager, Engine and Propeller Directorate, Aircraft Certification Service.

[FR Doc. E7-18412 Filed 9-20-07; 8:45 am]

BILLING CODE 4910-13-P